DEPARTMENT OF AGRICULTURE

Agricultural Marketing Service

7 CFR Chapter I

[Doc. No. AMS-LRRS-19-0099]

Nomenclature Changes; Technical Amendment

AGENCY: Agricultural Marketing Service, USDA.

ACTION: Final rule; technical amendment.

SUMMARY: This document makes nomenclature changes to the headings for a subchapter and various parts, subparts, and sections of the Code of Federal Regulations administered by the Agricultural Marketing Service (AMS). This action is necessary to conform with Office of the Federal Register requirements for regulatory language.

DATES: This rule is effective March 11, 2020.

FOR FURTHER INFORMATION CONTACT: Laurel L. May, Regulatory Analyst, Agricultural Marketing Service, USDA, 1400 Independence Ave. SW, Stop 0231, Washington, DC 20250-0231; phone: (202) 690-1366, fax: (202) 690-0552, or email: Laurel.May@usda.gov.

SUPPLEMENTARY INFORMATION: This final rule makes technical amendments to certain headings in the Code of Federal Regulations (CFR). The CFR is divided into titles, subtitles, chapters, subchapters, parts, subparts, sections, and subsections. Currently, some of the regulations administered by AMS in 7 CFR chapter I contain headings or footnotes that do not comply with Office of the Federal Register (OFR) requirements, which require the use of descriptive terms in regulatory headings and require that subparts be properly designated. The technical amendments in this final rule will ensure that the headings in 7 CFR chapter I are consistent with OFR nomenclature and formatting used throughout the CFR. This rule addresses many of the necessary changes in 7 CFR chapter I; the remainder are being addressed in concurrent actions by the individual AMS programs that administer the particular regulations.

This rule falls within a category of regulatory actions that the Office of Management and Budget (OMB) exempted from Executive Order 12866 review. Additionally, because this rule does not meet the definition of a significant regulatory action, it does not trigger the requirements contained in Executive Order 13771. See OMB's Memorandum titled “Interim Guidance Implementing Section 2 of the Executive Order of January 30, 2017, titled `Reducing Regulation and Controlling Regulatory Costs' ” (February 2, 2017).

The Administrative Procedure Act (APA) (5 U.S.C. 553(B)(3)(b)) provides that when an agency for good cause finds that notice and public procedure are impracticable, unnecessary, or contrary to the public interest, an agency my issue a rule without providing notice and an opportunity for public comment. AMS has determined that there is good cause for making this technical amendment final without prior proposal and opportunity for comment because the revisions are not substantive and will have no impact on the regulatory requirements in the affected parts. AMS has determined that public comment on such administrative changes is unnecessary and that there is good cause under the APA for proceeding with a final rule.

Further, because a notice of proposed rulemaking an opportunity for public comment are not required to be given for this rule under the APA or any other law, the analytical requirements of the Regulatory Flexibility Act (5 U.S.C. 601 et seq.) are not applicable. Accordingly, this rule is issued in final form. Although there is no formal comment period, public comments on this rule are welcome on an ongoing basis. Comments should be submitted to the address or email under FOR FURTHER INFORMATION CONTACT.

List of Subjects

7 CFR Part 27

Cotton.

7 CFR Part 28

Administrative practice and procedure, Cotton, Reporting and recordkeeping requirements, Warehouses.

7 CFR Part 29

Administrative practice and procedure, Advisory committees, Government publications, Imports, Pesticides and pests, Reporting and recordkeeping requirements, Tobacco.

7 CFR Part 33

Apples, Exports, Pears.

7 CFR Part 35

Grapes, Plums.

7 CFR Part 46

Agricultural commodities, Brokers, Investigations, Penalties, Reporting and recordkeeping requirements.

7 CFR Part 47

Administrative practice and procedure, Agricultural commodities, Brokers.

7 CFR Part 48

Agricultural commodities.

7 CFR Part 50

Administrative practice and procedure, Agricultural commodities, Food grades and standards.

7 CFR Part 53

Cattle, Livestock.

7 CFR Part 54

Food grades and standards, Food labeling, Meat and meat products, Poultry and poultry products.

7 CFR Part 56

Egg and egg products, Food grades and standards, Food labeling, Reporting and recordkeeping requirements.

7 CFR Part 57

Egg and egg products, Exports, Food grades and standards, Imports, Reporting and recordkeeping requirements.

7 CFR Part 58

Dairy products, Food grades and standards, Food labeling, Reporting and recordkeeping requirements.

7 CFR Part 61

Cottonseeds, Reporting and recordkeeping requirements.

7 CFR Part 75

Administrative practice and procedure, Agricultural commodities, Reporting and recordkeeping requirements, Seeds, Vegetables.

7 CFR Part 110

Administrative practice and procedure, Agricultural commodities, Intergovernmental relations, Penalties, Pesticides and pests, Reporting and recordkeeping requirements.

For the reasons set forth in the preamble, and under the authority of 7 CFR 2.79, AMS amends 7 CFR chapter I as follows:

1. Revise the heading of subchapter A to read as follows:

SUBCHAPTER A—COMMODITY STANDARDS AND CONTAINER REQUIREMENTS

PART 27—COTTON CLASSIFICATION UNDER COTTON FURTURES LEGISLATION

2. The authority citation for part 27 continues to read as follows:

Authority: 7 U.S.C. 15b, 7 U.S.C. 473b, 7 U.S.C. 1622(g).

3. Revise the heading for subpart A to read as follows:

Subpart A—Requirements

Subpart B [Added and Reserved]

4. Add reserved subpart B.

PART 28—COTTON CLASSING, TESTING, AND STANDARDS

Subpart A—Requirements Under the United States Cotton Standards Act

5. The authority citation for part 28, subpart A, continues to read as follows:

Authority: 7 U.S.C. 55 and 61.

6. Revise the heading for subpart A to read as set forth above.

PART 29—TOBACCO INSPECTION

7. The authority citation for part 29 continues to read as follows:

Authority: 7 U.S.C. 511-511s.

8. Revise the heading for subpart A to read as follows:

Subpart A—Policy Statement and Provisions Governing the Extension of Tobacco Inspection and Price Support Services to New Markets and to Additional Sales on Designated Markets

9. Revise the heading for subpart B to read as follows:

Subpart B—Requirements

10. Revise the heading for subpart F to read as follows:

Subpart F—Policy Statement and Provisions Governing the Identification and Certification of Nonquota Tobacco Produced and Marketed in a Quota Area

11. Revise the heading for subpart G to read as follows:

Subpart G—Policy Statement and Provisions Governing Availability of Tobacco Inspection and Price Support Services to Flue-Cured Tobacco on Designated Markets

PART 33—REQUIREMENTS UNDER THE EXPORT APPLE ACT

12. The authority citation for part 33 continues to read as follows:

Authority: Sec. 7, 48 Stat. 124; 7 U.S.C. 587.

13. Revise the heading for part 33 to read as set forth above.

14. The undesignated center heading above § 33.10 is revised to read as follows:

PROVISIONS

15. The undesignated center heading above § 33.50 is revised to read as follows:

MISCELLANEOUS

PART 35—EXPORT GRAPES AND PLUMS

16. The authority citation for part 35 continues to read as follows:

Authority: 74 Stat. 734; 75 Stat. 220; 7 U.S.C. 591-599.

17. Amend § 35.7 by removing the footnote and revising the parenthesized cross reference at the end of the paragraph to read as follows:

§ 35.7 Certificate.

* * * (7 CFR part 51).

Subchapter B—Marketing of Perishable Agricultural Commodities

PART 46—REQUIREMENTS (OTHER THAN ADMINISTRATIVE PROCEDURES) UNDER THE PERISHABLE AGRICULTURAL COMMODITIES ACT, 1930

18. The authority citation for part 46 continues to read as follows:

Authority: 7 U.S.C. 499a-499t.

19. Revise the heading for part 46 to read as set forth above.

PART 47—ADMINISTRATIVE PROCEDURES UNDER THE PERISHABLE AGRICULTURAL COMMODITIES ACT

20. The authority citation for part 47 continues to read as follows:

Authority: 5 U.S.C. 553; 7 U.S.C. 499f; 7 U.S.C. 499o; 7 CFR 2.22(a)(1)(viii)(L), 2.79(a)(8)(xiii).

21. Revise the heading for part 47 to read as set forth above.

22. Revise the heading for § 47.5 to read as follows:

§ 47.5 Scope and applicability of administrative procedures.

* * * * *

23. The undesignated center heading above § 47.6 is revised to read as follows:

PROVISIONS APPLICABLE TO REPARATION PROCEEDINGS

24. The undesignated center heading above § 47.46 is revised to read as follows:

PROVISIONS APPLICABLE TO DISCIPLINARY PROCEEDINGS

25. Revise the heading for § 47.46 to read as follows:

§ 47.46 Provision applicable to all proceedings.

* * * * *

26. The undesignated center heading above § 47.47 is revised to read as follows:

PROVISIONS APPLICABLE TO THE DETERMINATION AS TO WHETHER A PERSON IS RESPONSIBLY CONNECTED WITH A LICENSEE UNDER THE PERISHABLE AGRICULTURAL COMMODITIES ACT

PART 48—REQUIREMENTS OF THE SECRETARY OF AGRICULTURE FOR THE ENFORCEMENT OF THE PRODUCE AGENCY ACT

27. The authority citation for part 48 continues to read as follows:

Authority: Sec. 3, 44, Stat. 1355, as amended; 7 U.S.C. 494.

28. Revise the heading for part 48 to read as set forth above.

PART 50—ADMINISTRATIVE PROCEDURES GOVERNING WITHDRAWAL OF INSPECTION AND GRADING SERVICES

29. The authority citation for part 50 continues to read as follows:

Authority: 7 U.S.C. 1621 et seq.; 7 CFR 2.35, 2.41.

30. Revise the heading for part 50 to read as set forth above.

31. Revise the heading for § 50.1 to read as follows:

§ 50.1 Scope and applicability of administrative procedures.

* * * * *

32. Revise the heading for subpart B to read as follows:

Subpart B—Supplemental Administrative Procedures

Subchapter C—Regulations and Standards Under the Agricultural Marketing Act of 1946 and the Egg Products Inspection Act

PART 54—MEATS, PREPARED MEATS, AND MEAT PRODUCTS (GRADING, CERTIFICATION, AND STANDARDS)

33. The authority citation for part 54 continues to read as follows:

Authority: 7 U.S.C. 1621-1627.

34. Revise the heading for subpart A to read as follows:

Subpart A—Grading of Meats, Prepared Meats, and Meat Products

35. Revise the heading for subpart C to read as follows:

Subpart C—Provisions Governing the Certification of Sanitary Design and Fabrication of Equipment Used in the Slaughter, Processing, and Packaging of Livestock and Poultry Products

PART 56—VOLUNTARY GRADING OF SHELL EGGS

36. The authority citation for part 56 continues to read as follows:

Authority: 7. U.S.C. 1621-1627.

Subpart B [Added and Reserved]

37. Add reserved subpart B.

PART 57—INSPECTION OF EGGS (EGG PRODUCTS INSPECTION ACT)

38. The authority citation for part 57 continues to read as follows:

Authority: 21 U.S.C. 1031-1056.

39. Revise the heading for subpart A to read as follows:

Subpart A—Provisions Governing the Inspection of Eggs

40. Revise the heading for subpart B to read as follows:

Subpart B—Administrative Provisions Governing Proceedings Under the Egg Products Inspection Act

41. The undesignated center heading above § 57.1000 is revised to read as follows:

SCOPE AND APPLICABILITY OF ADMINISTRATIVE PROVISIONS

PART 58—GRADING AND INSPECTION, GENERAL SPECIFICATIONS FOR APPROVED PLANTS AND STANDARDS FOR GRADES OF DAIRY PRODUCTS

41. The authority citation for part 58 continues to read as follows:

Authority: 7 U.S.C. 1621—1627.

42. Revise the heading for part 58 to read as set forth above.

43. Revise the heading for subpart A to read as follows:

Subpart A—Provisions Governing the Inspection and Grading Services of Manufactured or Processed Dairy Products

PART 61—COTTONSEED SOLD OR OFFERED FOR SALE FOR CRUSHING PURPOSES (INSPECTION, SAMPLING AND CERTIFICATION)

Subpart A—Requirements

44. The authority citation for part 61, subpart A, continues to read as follows:

Authority: Sec. 205, 60 Stat. 1090, as amended, (7 U.S.C. 1624).

45. Revise the heading for subpart A to read as set forth above.

46. Revise the heading for § 61.5 to read as follows:

§ 61.5 Provisions to govern.

* * * * *

PART 75—PROVISIONS FOR INSPECTION AND CERTIFICATION OF QUALITY OF AGRICULTURAL AND VEGETABLE SEEDS

47. The authority citation for part 75 continues to read as follows:

Authority: 7 U.S.C. 1622 and 1624.

48. Revise the heading for part 75 to read as set forth above.

49. Revise the heading for § 75.5 to read as follows:

§ 75.5 Exceptions.

* * * * *

Subchapter E—Commodity Laboratory Testing Programs

PART 110—RECORDKEEPING ON RESTRICTED USE PESTICIDES BY CERTIFIED APPLICATIONS; SURVEYS AND REPORTS

50. The authority citation for part 110 continues to read as follows:

Authority: 7 U.S.C. 136a(d)(1)(c), 136i-1, and 450; 7 CFR 2.17, 2.50.

51. Revise the heading for § 110.8 to read as follows:

§ 110.8 Administrative procedures.

* * * * *

Dated: January 27, 2020.
Bruce Summers,
Administrator, Agricultural Marketing Service.

[FR Doc. 2020-01668 Filed 2-7-20; 8:45 am]

BILLING CODE 3410-02-P